DEPARTMENT OF ENERGY

Federal Energy Regulatory Commission

[Docket No. CP23-466-000]

Great Basin Gas Transmission Company; Notice of Schedule for the Preparation of an Environmental Assessment for the 2024 Expansion Project

On May 1, 2023, Great Basin Gas Transmission Company (Great Basin) filed an application in Docket No. CP23-466-000 requesting a Certificate of Public Convenience and Necessity pursuant to section 7(c) and Authorization pursuant to section 7(b) of the Natural Gas Act to construct, operate, and abandon certain natural gas pipeline facilities. The proposed project is known as the 2024 Expansion Project (Project), and would provide 5,674 dekatherms per day of incremental firm transportation service for two existing firm transportation shippers. The expansion would require construction of approximately 3.41 miles of upsized or looped pipeline segments across Douglas, Lyon, and Storey Counties, Nevada.

On May 15, 2023, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—November 28, 2023

90-day Federal Authorization Decision Deadline ²—February 26, 2024

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Great Basin proposes to: (1) construct approximately 0.25 mile of 20-inch-diameter pipeline loop along its Carson Lateral in Storey County, Nevada, referred to as the Truckee Canal segment; (2) abandon and replace approximately 2.88 miles of existing 10-inch-diameter pipeline with new 20-inch-diameter pipeline along the Carson Lateral in Lyon County, Nevada, referred to as the Silver Springs segment; and (3) construct approximately 0.28 mile of 12-inch-diameter pipeline loop paralleling its South Tahoe Lateral in Douglas County, Nevada, referred to as the Kingsbury segment. Additionally, Great Basin would install new aboveground valves and associated piping at its existing White Sage Pressure Limiting Station and at the Fort Churchill Valve Assembly on the Silver Springs pipeline segment in Lyon County, Nevada. Great Basin would also install one new belowground valve assembly and a below-ground hot tap at the terminus point of the Kingsbury pipeline segment in Douglas County, Nevada.

Background

On June 15, 2023, the Commission issued a Notice of Scoping Period Requesting Comments on Environmental Issues for the Proposed Great Basin 2024 Expansion Project (Notice of Scoping). The Notice of Scoping was sent to affected landowners; federal, state, and local government agencies; elected officials; environmental and public interest groups; Native American tribes; other interested parties; and local libraries and newspapers. In response to the Notice of Scoping, the Commission received comments in support of the Project from Southwest Gas Corporation and comments in protest from the Office of the Nevada Attorney General, Bureau of Consumer Protection. The primary issues raised by the Nevada Attorney General are associated with project need, capacity, and rates. All substantive environmental comments will be addressed in the EA.

The Bureau of Land Management is a cooperating agency in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP23-466), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: July 10, 2023.
Kimberly D. Bose,
Secretary.

[FR Doc. 2023-14987 Filed 7-13-23; 8:45 am]

BILLING CODE 6717-01-P